FEDERAL COMMUNICATIONS COMMISSION

47 CFR Part 73

[MB Docket No. 04-258; RM-11000; RM-11149; DA 10-1194]

FM Table of Allotments, Boulder Town, Levan, Mount Pleasant, and Richfield, UT

AGENCY: Federal Communications Commission.

ACTION: Final rule; petition for partial reconsideration, granted; petition for reconsideration, denied.

SUMMARY: The Audio Division grants a Petition for Partial Reconsideration filed by Sanpete County Broadcasting, licensee of Station KLGL(FM), Richfield, Utah. In so doing, the staff reinstates and grants Sanpete's Counterproposal to reallot and change the community of license of Station KLGL(FM) from Richfield to Mount Pleasant, Utah. The Audio Division also denies a Petition for Reconsideration filed by Micro Communications, Inc., licensee of Station KCFM, Levan, Utah, and affirms the dismissal of Micro's Petition for Rule Making on technical grounds. See Supplementary Information.

DATES: Effective September 7, 2010.

FOR FURTHER INFORMATION CONTACT: Andrew J. Rhodes, Media Bureau, (202) 418-2180.

SUPPLEMENTARY INFORMATION: This is a summary of the Commission's Memorandum Opinion and Order, MB Docket No. 04-258, adopted June 25, 2010, and released June 29, 2010. The full text of this Commission document is available for inspection and copying during normal business hours in the FCC Reference Information Center (Room CY-A257), 445 12th Street, SW., Washington, DC. The complete text of this decision may also be purchased from the Commission's copy contractor, Best Copy and Printing, Inc., 445 12th Street, SW., Room CY-B402, Washington, DC 20554, 800-378-3160 or via the company's Web site, http://www.bcpiweb.com.

The Report and Order in this proceeding had denied the counterproposal of Sanpete's predecessor in interest to reallot and change the community of license of its Station KLGL(FM) from Channel 229C at Richfield, Utah, to Channel 229C at Mount Pleasant, Utah, because the proposed transmitter site was unavailable due to its location in a national forest. See 71 FR 29886 (May 24, 2006). The counterproposal was also denied because it would create “white” and “gray” loss areas of 1,103 and 1,057 persons, respectively. The Memorandum Opinion and Order grants the Sanpete Counterproposal because Sanpete demonstrated that its proposed transmitter site is not located in the Mani-La National Forest. Likewise, Sanpete showed that its proposal would not create any “white” loss area. Rather the counterproposal would create a “gray” loss population of 1,057, but the staff found that this “gray” loss population was outweighed by the provision of a first local service to a community with a population of 2,707.

The reference coordinates for Channel 229C at Mount Pleasant, Utah, are 39-37-52 NL and 111-19-47 WL. Sanpete's Counterproposal was formerly a rule change to Section 73.202(b), the FM Table of Allotments. As a result of changes to the Commission's processing rules, modifications of FM channels for existing stations are no longer listed in Section 73.202(b) and are instead reflected in the Media Bureau's Consolidated Data Base System (CDBS). See Revision of Procedures Governing Amendments to FM Table of Allotments and Changes of Community of License in the Radio Broadcast Services, Report and Order, 71 FR 76208 (December 20, 2006). The CDBS will reflect Channel 229C at Mount Pleasant, Utah, as the reserved assignment of Station KLGL in lieu of Channel 229C at Richfield.

Micro's rule making petition had proposed the substitution of FM Channel 229C for Channel 244C at Levan, Utah, and the modification of its Station KCFM license to specify operation on Channel 229C. To accommodate this substitution, Micro had proposed to substitute Channel 244C for Channel 229C at Richfield, Utah, and to modify the license for Station KLGL(FM), accordingly. The Memorandum Opinion and Order affirmed the dismissal of Micro's rule making petition because it was technically defective at the time it was filed. Specifically, Station KLGL had both a license and a construction permit at the time that the rulemaking petition was filed, and the proposed Channel 244C at the construction permit site at Richfield was short-spaced to two vacant allotments at Beaver, Utah, and Mesquite, Nevada.

This document does not contain new or modified information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Commission will send a copy of this Report and Order in a report to be sent to Congress and the Government Accountability Office pursuant to the Congressional Review Act, see 5 U.S.C. 801(a)(1)(A).

Provisions of the Regulatory Flexibility Act of 1980 do not apply to this proceeding.

Federal Communications Commission.
John A. Karousos,
Assistant Chief, Audio Division Media Bureau.

[FR Doc. 2010-19456 Filed 8-5-10; 8:45 am]

BILLING CODE 6712-01-P